DEPARTMENT OF AGRICULTURE

Agricultural Marketing Service

[Docket # AMS-FV-2006-0204; FV-06-316]

United States Standards for Grades of Oranges (California and Arizona) and/or United States Standards for Grades of Grapefruit (California and Arizona)

AGENCY: Agricultural Marketing Service, USDA.

ACTION: Notice; withdrawal.

SUMMARY: The Agricultural Marketing Service (AMS) is withdrawing the notice soliciting comments on its proposal to amend the voluntary United States Standards for Grades of Oranges (California and Arizona) and/or United States Standards for Grades of Grapefruit (California and Arizona). After reviewing and considering the comment received, the Agency has decided not to proceed with this action.

EFFECTIVE DATE: February 5, 2007

FOR FURTHER INFORMATION CONTACT: Cheri L. Emery, Standardization Section, Fresh Products Branch, Fruit and Vegetable Programs, Agricultural Marketing Service, U.S. Department of Agriculture, 1400 Independence Avenue, SW., Room 1661 South Building, STOP 0240, Washington, DC 20250-0240, Fax (202) 720-8871 or call (202) 720-2185; E-mail Cheri.Emery@usda.gov. The United States Standards for Grades of Oranges and/or United States Standards for Grades of Grapefruit are available either through the address cited above or by accessing the AMS, Fresh Products Branch Web site at: http://www.ams.usda.gov/standards/stanfrfv.htm.

Background

AMS had identified the United States Standards for Grades of Oranges (California and Arizona) and/or United States Standards for Grades of Grapefruit (California and Arizona) for possible revisions to reflect current marketing trends. The standards were last revised in 1999. On August 25, 2006, AMS published a notice in the Federal Register (71 FR 50383) soliciting comments on any possible revisions to the United States Standards for Grades of Oranges (California and Arizona) and/or United States Standards for Grades of Grapefruit (California and Arizona). The comment period ended October 24, 2006.

During that sixty-day comment period, one comment was received. A California growers' association asked AMS not to proceed with any changes to the orange standards at this time because it was engaged in a consumer research project specific to grades and standards that will continue to run an additional two years. There were no comments concerning any revisions to the grapefruit standards. The comment is available by accessing AMS, Fresh Products Branch Web site at: http://www.ams.usda.gov/fv/fpbdocketlist.htm.

After reviewing and considering the comment received, the Agency has decided not to proceed with the action. Therefore, the notice published August 25, 2006, (71 FR 50383) is withdrawn.

Authority: 7 U.S.C. 1621-1627.

Dated: January 30, 2007.
Lloyd C. Day,
Administrator, Agricultural Marketing Service.

[FR Doc. E7-1759 Filed 2-2-07; 8:45 am]

BILLING CODE 3410-02-P